Proclamation 8131 of April 20, 2007

National Park Week, 2007

By the President of the United States of America

A Proclamation

Americans take great pride in our country's natural beauty, and our Nation is blessed to have a park system of more than 80 million acres that belongs to us all. During National Park Week, we underscore our dedication to conserving these national treasures, and we pay tribute to the dedicated employees and volunteers of the National Park Service who care for them.

Established in 1916, the National Park Service now oversees a National Park System that has grown to include almost 400 sites, with parks in nearly every State. These parks protect beautiful landscapes, tell important stories about our country's past, and encourage our citizens to conserve our natural environment and celebrate our national history. They are places to learn, exercise, and spend time with family and friends. Through her work with the Junior Rangers and the National Park Foundation, First Lady Laura Bush and others are working to expand access to the riches of our parks.

In anticipation of the 100th anniversary of the National Park Service in 2016, my Administration has launched the National Parks Centennial Initiative. The initiative calls upon government, the private sector, and our citizenry to share in an effort to help prepare our parks for another century of conservation, preservation, and enjoyment. We will work to enhance park habitats, expand visitor services, increase educational opportunities, implement new technologies, and hire additional seasonal park rangers. By maintaining and improving our park system, we can ensure that our national parks will thrive for the next 100 years and beyond.

NOW, THEREFORE, I, GEORGE W. BUSH, President of the United States of America, by virtue of the authority vested in me by the Constitution and laws of the United States, do hereby proclaim April 22 through April 29, 2007, as National Park Week. This year's theme is “Your National Parks: Explore, Learn, and Protect.” I invite all my fellow citizens to join me in celebrating America's national parks by visiting these wonderful spaces, discovering all they have to offer, and becoming active participants in park conservation.

IN WITNESS WHEREOF, I have hereunto set my hand this twentieth day of April, in the year of our Lord two thousand seven, and of the Independence of the United States of America the two hundred and thirty-first.

[FR Doc. 07-2067

Filed 4-24-07; 8:52 am]

Billing code 3195-01-P